ENVIRONMENTAL PROTECTION AGENCY

40 CFR Parts 174 and 180

[EPA-HQ-OPP-2022-0161; FRL-9410-13-OCSPP]

Receipt of Pesticide Petitions Filed for Residues of Pesticide Chemicals in or on Various Commodities April 2022

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before June 21, 2022.

ADDRESSES: Submit your comments, identified by docket identification (ID) number and the pesticide petition (PP) of interest as shown in the body of this document, by one of the following methods:

• Federal eRulemaking Portal: https://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

The latest information on EPA/DC docket access, services and submitting comments is available at https://www.epa.gov/dockets.

FOR FURTHER INFORMATION CONTACT: Charles Smith, Biopesticides and Pollution Prevention Division (BPPD) (7511M), main telephone number: (202) 566-1400, email address: BPPDFRNotices@epa.gov; or Marietta Echeverria, Registration Division (RD) (7505T), main telephone number: (202) 566-1030, email address: RDFRNotices@epa.gov. The mailing address for each contact person: Office of Pesticide Programs, Environmental Protection Agency, 1200 Pennsylvania Ave. NW, Washington, DC 20460-0001. Include the contact person's name, division, and mail code in the mailing address. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through https://www.regulations.gov/ or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at https://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerance Exemptions for Non-Inerts (Except PIPS)

PP 1F8962. (EPA-HQ-OPP-2021-0911). Agroindustrial Kimitec S.L., Maavi Innovation Center, Paraje Cerro de los Lobos s/n, 04738 Vicar, Almeria, Spain (c/o Compliance Services International, 7501 Bridgeport Way West, Lakewood, WA 98499-2423), requests to amend an exemption from the requirement of a tolerance in 40 CFR 180.1271 for residues of the insecticide eucalyptus oil in or on all food commodities when used in accordance with good agricultural practices. The petitioner believes no analytical method is needed because eucalyptus oil is included by the FDA in the Direct Food Substances Affirmed as Generally Recognized as Safe list and, per 40 CFR part 150.2040, “residue chemistry data requirements apply to biochemical pesticide products when Tier II or Tier III toxicology data are required, as specified for biochemical agents in the biochemical human health assessment data requirements, § 158.2050”. In the case of eucalyptus oil, the results of Tier I toxicology testing indicated that no Tier II or Tier III toxicology data were required, and as a result, no residue enforcement method is required. Contact: BPPD.

B. Notice of Filing—Amended Tolerances for Non-Inerts

1. PP 2E8987. (EPA-HQ-OPP-2021-0361). Interregional Research Project Number 4 (IR-4), IR-4 Project Headquarters, North Carolina State University, 1730 Varsity Drive, Suite 210, Venture IV, Raleigh, NC 27606, requests to amend 40 CFR 180.383 by removing the established tolerance for residues of the herbicide sodium salt of acifluorfen, sodium 5-[2-chloro-4-(trifluoromethyl)phenoxy]-2-nitrobenzoate, and its metabolites (the corresponding acid, methyl ester, and amino analogues) in or on Strawberry at 0.05 parts per million (ppm). Contact: RD.

2. PP 1F8946. (EPA-HQ-OPP-2021-0729). Syngenta Crop Protection, LLC, 410 Swing Road, P.O. Box 18300, Greensboro, NC 27419, requests to amend the tolerance(s) in 40 CFR 180.507 for residues of the fungicide, azoxystrobin (methyl (E)-2-{2-[6-(2-cyanophenoxy)pyrimidin-4-yloxy]phenyl}-3-methoxyacrylate) and the Z isomer of azoxystrobin (methyl (Z)-2-{2-[6-(2- cyanophenoxy)pyrimidin-4-yloxy]pheny1}-3-methoxyacrylate), in or on mango at 4 ppm and papaya at 6 ppm. Gas chromatography with nitrogen-phosphorus detection (GC-NPD) or in mobile phase by high performance liquid chromatography with ultra-violet detection (HPLC-UV) is used to measure and evaluate the chemical Azoxystrobin and its Z isomer. Contact: RD.

C. New Tolerance Exemptions for Inerts (Except PIPS)

1. IN-11660. (EPA-HQ-OPP-2022-0364). The United States Department of Agriculture, Animal and Plant Health Inspection Service (4700 River Road, Unit 149, Riverdale, MD 20737), requests to establish an exemption from the requirement of a tolerance for residues of zein (CAS Reg. No. 9010-66-6) when used as a pesticide inert ingredient (stabilizing agent) in pesticide formulations applied to animals under 40 CFR 180.930, limited to no more than 10,000 ppm in the final pesticide formulation. The petitioner believes no analytical method is needed because it is not required for an exemption from the requirement of a tolerance. Contact: RD.

2. IN-11693. (EPA-HQ-OPP-2022-0325). Ethox Chemicals, LLC (1801 Perimeter Road, Greenville, SC 29605) requests to establish an exemption from the requirement of a tolerance for residues of oxirane, 2-methyl-, polymer with oxirane, di-(9Z)-9-octadecenoate (CAS Reg. No. 67167-17-3) with a minimum number average molecular weight (in amu) of 2500 when used as a pesticide inert ingredient in pesticide formulations under 40 CFR 180.960. The petitioner believes no analytical method is needed because it is not required for an exemption from the requirement of a tolerance. Contact: RD.

D. New Tolerance Exemptions for Non-Inerts (Except PIPS)

PP 1F8915. (EPA-HQ-OPP-2022-0308). Gowan Company in cooperation with SDS Biotech K.K., c/o Landis International, Inc., P.O. Box 5126, 3185 Madison Highway, Valdosta, GA 31603, requests to establish an exemption from the requirement of a tolerance in 40 CFR part 180 for residues of the fungicide bacillus amyloliquefaciens strain AT-332 in or on all food commodities. The petitioner believes no analytical method is needed because it is not applicable. Contact: BPPD.

E. Notice of Filing—New Tolerances for Non-Inerts

1. PP 2E8987. (EPA-HQ-OPP-2022-0361). Interregional Research Project No. 4 (IR-4) North Carolina State University, 1730 Varsity Drive, Suite 210, Venture IV, Raleigh, NC 27606, requests to establish a tolerance in 40 CFR 180.383 for residues of the herbicide, sodium salt of acifluorfen, sodium 5-[2-chloro-4-(trifluoromethyl)phenoxy]-2-nitrobenzoate, and its metabolites (the corresponding acid, methyl ester, and amino analogues) in or on the following raw agricultural commodities: Soybean, vegetable, edible podded at 0.09 ppm; soybean, vegetable, succulent shelled at 0.09; and berry, low growing, subgroup 13-07G at 0.1 ppm. A gas chromatography and liquid chromatography BASF corporation: Study No. 92161, Method No. D9205 was used to measure and evaluate the chemical. Contact: RD.

2. PP 1F8937. (EPA-HQ-OPP-2021-0634). Albaugh, LLC, 1535 36th St. NE, Ankeny, IA 50021, requests to establish a tolerance in 40 CFR part 180 for residues of the herbicide, oxyfluorfen in or on rice at 0.01 ppm. The acetonitrile fraction method is used to measure and evaluate the chemical oxyfluorfen. Contact: RD.

3. PP 1F8946. (EPA-HQ-OPP-2021-0729). Syngenta Crop Protection, LLC, 410 Swing Road, P.O. Box 18300, Greensboro, NC 27419, requests to establish an import tolerance in 40 CFR part 180 for residues of the fungicide, azoxystrobin (methyl (E)-2-{2-[6-(2-cyanophenoxy)pyrimidin-4-yloxy]phenyl}-3-methoxyacrylate) and the Z isomer of azoxystrobin (methyl (Z)-2-{2-[6-(2- cyanophenoxy)pyrimidin-4-yloxy]pheny1}-3-methoxyacrylate), in or on palm, oil at 0.06 ppm. GC-NPD or in mobile phase by HPLC-UV is used to measure and evaluate the chemical azoxystrobin and its Z isomer. Contact: RD.

4. PP 1F8954. (EPA-HQ-OPP-2022-0003). Syngenta Crop Protection, LLC, 410 Swing Road, P.O. Box 18300, Greensboro, NC 27410, requests to establish a tolerance in 40 CFR part 180 for residues of the nematocide, cyclobutrifluram (rel-N-[(1R,2R)-2-(2,4-dichlorophenyl)cyclobutyl]-2-(trifluoromethyl)-3-pyridinecarboxamide) in or on cotton at 0.01 ppm; cotton, by-products at 0.01 ppm; lettuce, romaine at 0.015 ppm; and soybean at 0.01 ppm. The methods GRM076.07A and GRM076.11A are used to measure and evaluate the chemical cyclobutrifluram and related metabolites, SYN510275 and SYN549104. Contact: RD.

5. PP 1F8958. (EPA-HQ-OPP-2022-0198). ISK Biosciences Corporation, 7470 Auburn Road, Suite A, Concord, Ohio, 44077, requests to establish a tolerance in 40 CFR part 180 for residues of the herbicide, tolpyralate, 1-[[1-Ethyl-4-[3-(2-methoxyethoxy)-2-methyl-4-(methylsulfonyl)benzoyl]-1H-pyrazol-5-yl]oxy]ethyl methyl carbonate, including its metabolite MT-2153, in or on wheat, grain at 0.01 ppm; wheat, forage at 0.02 ppm; wheat, hay at 0.05 ppm; wheat, straw at 0.03 ppm; barley, grain at 0.015 ppm; barley, hay at 0.2 ppm; and barley, straw at 0.08 ppm. The Analytical method using liquid Chromatography-MS/MS is used to measure and evaluate the chemical tolpyralate. Contact: RD.

Authority: 21 U.S.C. 346a.

Dated: May 12, 2022.
Brian Bordelon,
Acting Director, Information Technology and Resources Management Division, Office of Program Support.

[FR Doc. 2022-10851 Filed 5-19-22; 8:45 am]

BILLING CODE 6560-50-P